DEPARTMENT OF ENERGY

10 CFR Part 429

[EERE-2012-BT-STD-0045]

RIN 1904-AE90

Energy Conservation Program for Appliance Standards: Certification for Ceiling Fan Light Kits, General Service Incandescent Lamps, Incandescent Reflector Lamps, Ceiling Fans, Consumer Furnaces and Boilers, Consumer Water Heaters, Dishwashers, and Commercial Clothes Washers, Battery Chargers, and Dedicated-Purpose Pool Pumps; Correction

AGENCY: Office of Energy Efficiency and Renewable Energy, Department of Energy.

ACTION: Correcting amendments.

SUMMARY: On July 22, 2022, the U.S. Department of Energy (“DOE”) published a final rule that amended the certification provisions for ceiling fan light kits (“CFLKs”), in addition to several other covered products. This document corrects an error in the amended regulatory text for CFLKs as it appeared in the final rule. Neither the error nor the correction in this document affect the substance of the rulemaking or any conclusions reached in support of the final rule.

DATES: Effective September 6, 2022.

FOR FURTHER INFORMATION CONTACT:

Mr. Lucas Adin, U.S. Department of Energy, Office of Energy Efficiency and Renewable Energy, Building Technologies Office, EE-5B, 1000 Independence Avenue SW, Washington, DC 20585-0121. Telephone: (202) 287-5904. Email: ApplianceStandardsQuestions@ee.doe.gov.

Ms. Amelia Whiting, U.S. Whiting, Department of Energy, Office of the General Counsel, GC-33, 1000 Independence Avenue SW, Washington, DC 20585-0121. Telephone: (202) 586-2588. Email: amelia.whiting@hq.doe.gov.

SUPPLEMENTARY INFORMATION:

I. Background

DOE published a final rule in the Federal Register on July 22, 2022, amending certification requirements in part 429 of title 10 of the Code of Federal Regulations (10 CFR part 429) applicable to ceiling fan light kits (“CFLKs”), general service incandescent lamps, incandescent reflector lamps, ceiling fans, consumer furnaces and boilers, consumer water heaters, dishwashers, commercial clothes washers, battery chargers, and dedicated-purpose pool pumps. 87 FR 43952. Since publication of the final rule, DOE has learned of an error in the regulatory text for the CFLK certification provisions in 10 CFR 429.33. The regulatory text in this section contains provisions that apply to CFLKs based upon their date of manufacture. Specifically, the requirements in 10 CFR 429.33(b)(2)(ii) and (b)(3)(ii) apply to products manufactured on or after January 21, 2020, whereas those in 10 CFR 429.33(b)(2)(i) and (b)(3)(i) apply to products manufactured prior to January 21, 2020. However, the amended regulatory text as adopted by the July 22, 2022, final rule erroneously identified the compliance date in these paragraphs as January 1, 2020, rather than January 21, 2020.

II. Need for Correction

As published, the regulatory text in the July 2022 final rule may result in confusion as to the applicability of specific certification provisions that apply to CFLKs. The current regulatory text is also in conflict with the current compliance date for energy conservation standards for CFLKs in 10 CFR 430.32(s)(6). Because this final rule would simply correct an error in the text without making substantive changes in the July 2022 final rule, the changes addressed in this document are technical in nature.

III. Procedural Issues and Regulatory Review

DOE has concluded that the determinations made pursuant to the various procedural requirements applicable to the July 2022 final rule remain unchanged for this final rule technical correction. These determinations are set forth in the July final rule. 87 FR 43952, 43973-43976.

Pursuant to the Administrative Procedure Act, 5 U.S.C. 553(b)(3)(B), DOE finds that there is good cause to not issue a separate notice to solicit public comment on the changes contained in this document. Issuing a separate notice to solicit public comment would be impracticable, unnecessary, and contrary to the public interest. Neither the errors nor the corrections in this document affect the substance of the July 2022 final rule or any of the conclusions reached in support of the final rule. Providing prior notice and an opportunity for public comment on correcting objective, typographical errors that do not change the substance of the test procedure serves no useful purpose.

Further, this rule correcting a regulatory text error makes non-substantive changes to the test procedure. As such, this rule is not subject to the 30-day delay in effective date requirement of 5 U.S.C. 553(d) otherwise applicable to rules that make substantive changes.

List of Subjects in 10 CFR Part 429

Administrative practice and procedure, Confidential business information, Energy conservation, Household appliances, Imports, Intergovernmental relations, Reporting and recordkeeping requirements, Small businesses.

Signing Authority

This document of the Department of Energy was signed on August 26, 2022, by Dr. Geraldine L. Richmond, Undersecretary for Science and Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 26, 2022.
Treena V. Garrett,
Federal Register Liaison Officer, U.S. Department of Energy.

For the reasons stated in the preamble, DOE corrects part 429 of chapter II, subchapter D, of title 10 of the Code of Federal Regulations by making the following correcting amendments:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317; 28 U.S.C. 2461 note.

2. Section 429.33 is amended by revising the introductory text of paragraphs (b)(2)(i) and (ii), paragraph (b)(3)(i), and paragraph (b)(3)(ii) introductory text to read as follows:

§ 429.33 Ceiling fan light kits.

* * * * *

(b) * * *

(2) * * *

(i) For ceiling fan light kits manufactured prior to January 21, 2020:

* * * * *

(ii) For ceiling fan light kits manufactured on or after January 21, 2020:

* * * * *

(3) * * *

(i) For ceiling fan light kits with any other socket type manufactured prior to January 21, 2020, a declaration that the basic model meets the applicable design requirement, and the features that have been incorporated into the ceiling fan light kit to meet the applicable design requirement (e.g., circuit breaker, fuse, ballast).

(ii) For ceiling fan light kits manufactured on or after January 21, 2020:

* * * * *

[FR Doc. 2022-18863 Filed 9-2-22; 8:45 am]

BILLING CODE 6450-01-P